DEPARTMENT OF TRANSPORTATION

Federal Aviation Administration

Fifteenth Meeting: RTCA Special Committee 217—Aeronautical Databases Joint with EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held February 25 through March 1, 2013, from 9:00 a.m. to 5:00 p.m.

ADDRESSES: The meeting will be held at Eurocontrol Headquarters, Rue de la Fusée, 96 1130, Brussels (Haren), Belgium.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of RTCA Special Committee 217—Aeronautical Databases held jointly with EUROCAE WG-44—Aeronautical Databases. The agenda will include the following:

Monday, February 25—Opening Plenary Session

• Co-Chairmen's remarks and introductions

○ Introduction of new RTCA Program Director

• Housekeeping

• Approve minutes from 14th meeting

• Review and approve meeting agenda for 15th meeting

• Schedule and working arrangements for the week

• Closing Plenary Schedule

Monday thru Thursday, February 25 to 28—Working Group Sessions

Working Group One (WG1)—DO-200A/ED-76—Stephane Dubet

• Review of WG44/SC217 ToR and discussion of the scope of WG1

• Current ED76/DO200A

○ Overview of the standard

○ Review of the current version assets and identified shortcomings

• Other related standards and initiatives

○ ICAO

○ FAA

○ EU SES (EU73/2010 a.k.a. ADQ1, ADQ2)

○ Other EUROCAE/RTCA standards

• Review of ED76 change scoping

○ Initial European scoping exercise

○ US review and comments

○ Further inputs

○ Conclusions

• Organization of the updating effort, working arrangements, and implementation

Working Group Two (WG2)—DO-272/DO-276/DO-291—John Kasten

• Action Item Review

• Highest Priority Updates (as documented in Salt Lake City Meeting)

○ Update ASRN for De-Icing Areas, Aprons and Parking Areas, DO-272

○ Format for Capture Rules and Geometric Constraints, DO-272 and DO-276

○ Use of “location” in feature and attribute names, DO-272 and DO-276, impact on DO-291

○ Investigate reformatting DO-291 for two parts, Airport Mapping and Terrain/Obstacle

○ Requirements for Low Visibility Taxi Routes, DO-272

○ Requirements for Preferred Taxi Routes, DO-272

○ Resolve Painted Centerline feature. DO-272

○ Resolve Bridge Point data capture, DO-272

○ Address Airport Information in Textual Format (AITF), DO-272

○ Update Taxiway Feature Attributes (intersections), DO-272

○ Requirements for Markings, e.g. Apron Entry, DO-272

○ Requirements for Runway Feature Attributes related to surface conditions, e.g. rubber on runway, DO-272

○ Requirements, directionality of hold positions, DO-272

○ ATC Requirements for use of ASRN, DO-272

○ Requirements for supporting D-NOTAM, DO-272

○ Requirements for Runway Intersection when more than two, DO-272

• Update on Activities—ARINC 816, DO-272 and DO-276

Friday, March 1—Closing Plenary session

• Presentation of WG1 and WG2 conclusions

• Proposed way forward

• Working arrangements for remaining work

• Review of action items

• Next meetings, dates and locations

• Any other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 30, 2013.
Paige L. Williams,
Management Analyst, Business Operations Group, ANG-A12, Federal Aviation Administration.

[FR Doc. 2013-02598 Filed 2-5-13; 8:45 am]

BILLING CODE 4910-13-P